DEPARTMENT OF COMMERCE

National Oceanic and Atmospheric Administration

[RTID 0648-XA097]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Habitat Protection and Ecosystem-Based Management Advisory Panel (AP).

DATES: The AP meeting will be conducted via webinar on Wednesday, April 22, 2020, from 9 a.m. to 11 p.m. and from 1 p.m. to 3 p.m.

ADDRESSES:

Meeting address: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The Habitat AP meeting is open to the public and will be available via webinar as it occurs. Registration is required. Webinar registration information and other meeting materials will be posted to the Council's website at: http://safmc.net/safmc-meetings/current-advisory-panel-meetings/ as it becomes available.

The Habitat AP meeting agenda includes the following:

Updates on NOAA Fisheries Ecosystem-Based Fishery Management Activities for the South Atlantic Region including the development of a South Atlantic Ecosystem Status Report and a South Atlantic Climate Vulnerability Analysis; NOAA Mapping and Characterization of South Atlantic Deep Water Ecosystems.

AP members will also receive a status report on the Council action to designate Bullet and Frigate Mackerel as Ecosystem Component Species to the Dolphin Wahoo Fishery Management Plan and a report from Council/NOAA Fisheries Essential Fish Habitat Consultation and Regional Innovations Workshop. The AP will receive updates on the following: The South Atlantic Ecopath with Ecosim Model and Scientific and Statistical Committee (SSC) Workgroup Review and Development of Ecospace; the Kitty Hawk Wind Project; Southeast Coastal Ocean Observing Regional Association (SECOORA) Products associated with extreme events and 2021 IOOS (Integrated Ocean Observing System) proposal: And Fishery Independent Research in the South Atlantic Region through the Southeast Reef Fish Survey (SERFS).

The AP will develop recommendations as necessary for consideration by the Council's Habitat Protection and Ecosystem-Based Management Committee.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: March 27, 2020.
Tracey L. Thompson,
Acting Deputy Director, Office of Sustainable Fisheries, National Marine Fisheries Service.

[FR Doc. 2020-06801 Filed 3-31-20; 8:45 am]

BILLING CODE 3510-22-P